DEPARTMENT OF HOMELAND SECURITY

Coast Guard

33 CFR Part 117

[Docket No. USCG-2025-0152]

RIN 1625-AA09

Drawbridge Operation Regulation; Atlantic Intracoastal Waterway, North Myrtle Beach, SC

AGENCY: Coast Guard, DHS.

ACTION: Final rule.

SUMMARY: The Coast Guard is changing the operating schedule that governs the Little River Bridge, across the Atlantic Intracoastal Waterway (AICW) (Upper Little River), mile 347.3, at North Myrtle Beach, SC. This action will assist with vehicle congestion during weekday rush hour periods by placing the swing bridge on scheduled openings.

DATES: This rule is effective February 19, 2026.

ADDRESSES: To view documents mentioned in this preamble as being available in the docket, go to https://www.regulations.gov. Type the docket number (USCG-2025-0152) in the “SEARCH” box and click “SEARCH”. In the Document Type column, select “Supporting & Related Material.”

FOR FURTHER INFORMATION CONTACT: If you have questions on this rule, call or email Ms. Jennifer Zercher, Bridge Management Specialist, Coast Guard District Southeast; telephone 571-607-5951, email Jennifer.N.Zercher@uscg.mil.

SUPPLEMENTARY INFORMATION:

I. Table of Abbreviations

CFR Code of Federal Regulations

DHS Department of Homeland Security

FR Federal Register

OMB Office of Management and Budget

NPRM Notice of Proposed Rulemaking

§ Section

U.S.C. United States Code

SC South Carolina

U.S. United States

SCDOT South Carolina Department of Transportation

AICW Atlantic Intracoastal Waterway

II. Background Information and Regulatory History

On May 13, 2025, the Coast Guard published a temporary deviation entitled “Drawbridge Operation Regulation; Atlantic Intracoastal Waterway, North Myrtle Beach, SC” in the Federal Register (90 FR 20235), to test this operating schedule for the Little River Bridge. Zero comments were received during the test period.

On September 9, 2025, the Coast Guard published a Notice of Proposed Rulemaking entitled “Drawbridge Operation Regulation; Atlantic Intracoastal Waterway, North Myrtle Beach, SC” in the Federal Register (90 FR 43402). There we stated why we issued the NPRM and invited comments on our proposed regulatory action related to this regulatory change. During the comment period that ended October 9, 2025, we received 51 comments, and those comments are addressed in Section IV. of this Final Rule.

III. Legal Authority and Need for Rule

The Coast Guard is issuing this rule under authority 33 U.S.C. 499. The Little River Bridge across the AICW (Upper Little River), mile 347.3, at North Myrtle Beach, SC, is a swing bridge with a 7-foot vertical clearance at mean high water in the closed position. The normal operating schedule for the swing bridge is set forth in 33 CFR 117.5.

South Carolina Department of Transportation (SCDOT) requested the Coast Guard consider scheduled weekday openings during rush hour to assist with vehicle congestion. The swing bridge opens on demand for navigation. This change places the swing bridge on scheduled weekday openings during rush hour.

IV. Discussion of Comments, Changes and the Final Rule

The Coast Guard provided a 30-day comment period during the NPRM and received a total of 51 comments. Twenty-one comments were in favor of the proposed changes. The commenters felt allowing the swing bridge to operate on scheduled openings during designated rush hour has assisted with vehicle congestion. It was suggested that traffic lights should be synchronized with scheduled openings and warning signage should be installed on connecting roadways providing vehicle traffic with the bridge status. These recommendations will be passed on to the appropriate agencies as they are outside the jurisdiction and authority of the Coast Guard.

Alternate operating schedules were suggested by 17 commenters. The alternate schedules included having the swing bridge open only once an hour, allowing the swing bridge to remain in the closed position during designated rush hour and extend designated rush hour times. The swing bridge provides very restrictive navigational clearances. The swing bridge provides only 7 feet of vertical clearance when the swing bridge is in the closed position. This waterway is utilized by commercial and recreational vessels. When the adjacent high-level fixed bridge, the U.S. 17 Highway Bridge, was constructed in 1997, the Coast Guard required the swing bridge be permanently removed from the waterway due to its restrictive nature. SCDOT requested the swing bridge remain for local traffic use. The Coast Guard allowed the swing bridge to remain in place and required it to operate on demand. The swing bridge has a vehicle weight restriction limiting usage, making it a secondary roadway. The Coast Guard acknowledges the population has increased in the North Myrtle Beach area, however, there are two high-level fixed bridges within two-mile radius of the swing bridge providing access across the AICW. Allowing the swing bridge to operate in a manner other than the proposed change is not reasonable for navigation given its restrictive nature and the alternate routes available for roadway traffic. The AICW is a Federal Project Waterway that extends over 1,500 miles from Boston to Florida Bay. It is the main waterway artery for all commercial and recreational marine traffic that are unable to safely transit offshore.

There were three duplicate comments and three comments that were outside the scope of the proposed rule. Seven comments were against the proposed change. The commenters stated that either the swing bridge should remain on demand or be permanently removed from the waterway. They felt that given the restrictive nature, adjacent high-level fixed bridge and the narrow waterway, marine traffic should be unrestricted. The Coast Guard understands their concerns, however, allowing the swing bridge to open per the proposed change via an authorized temporary deviation has not had a negative impact on navigation and has assisted with vehicle congestion during rush hour.

The current operating schedule allows the Little River Bridge to open on demand for marine traffic. Under this rule, the swing bridge will continue to open on demand, except that on weekdays, the swing bridge will open at the top and bottom of each hour from 7 a.m. to 9 a.m. and from 4 p.m. to 6 p.m. At all other times the swing bridge will open on demand. Vessels that can pass beneath the swing bridge without an opening may do so at any time. Vessels exempted from specific requirements can still request an opening any time.

V. Regulatory Analyses

We developed this rule after considering numerous statutes and Executive Orders related to rulemaking. Below we summarize our analyses based on a number of these statutes and Executive Orders.

A. Impact on Small Entities

The Regulatory Flexibility Act of 1980, 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received zero comments from the Small Business Administration on this rule. The Coast Guard certifies under 5 U.S.C. 605(b) that this rule will not have a significant economic impact on a substantial number of small entities for the following reasons. This regulatory action determination is based on the ability that vessels can still transit the bridge during the scheduled times and vessels able to pass without an opening may do so at any time.

Under section 213(a) of the Small Business Regulatory Enforcement Fairness Act of 1996 (Pub. L. 104-121), we want to assist small entities in understanding this rule. If the rule will affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

B. Collection of Information

This rule calls for no new collection of information under the Paperwork Reduction Act of 1995 (44 U.S.C. 3501-3520).

C. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Appendix A, Table 1 of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.4.

2. Amend § 117.911 by adding paragraph (b) to read as follows:

§ 117.911 Atlantic Intracoastal Waterway, Little River to Savannah River.

* * * * *

(b) Little River Bridge across Upper Litte River, mile 347.3, at North Myrtle Beach. The draw shall open on signal, except that from 7 a.m. to 9 a.m. and 4 p.m. to 6 p.m., Monday through Friday, except Federal holidays, the draw will open on the hour and half-hour.

* * * * *

Dated: January 14, 2026.
Adam A. Chamie,
Rear Admiral, U.S. Coast Guard, Commander, Coast Guard Southeast District.

[FR Doc. 2026-00931 Filed 1-16-26; 8:45 am]

BILLING CODE 9110-04-P